DEPARTMENT OF ENERGY

Federal Energy Regulatory Commission

[Docket No. RP16-618-000]

Algonquin Gas Transmission, LLC; Notice of Technical Conference

Take notice that a technical conference will be held in this proceeding on Monday, May 9, 2016, beginning at 10:00 a.m. and ending at approximately 3:30 p.m., at the Federal Energy Regulatory Commission, 888 First Street NE., Washington, DC 20426. All interested parties are invited to attend the conference. Commission members may participate in the conference.

The purpose of the technical conference is to examine the issues raised in the protests and comments regarding the February 19, 2016 filing made by Algonquin Gas Transmission, LLC (Algonquin). In that filing, Algonquin proposed to exempt from the capacity release bidding requirements certain types of capacity releases of firm transportation by electric distribution companies that are participating in state-regulated electric reliability programs.¹ Issues to be examined at the technical conference include concerns raised regarding the basis and need for the waiver.

¹ Algonquin Gas Transmission, LLC, 154 FERC ¶ 61,269 (2016).

Those interested in speaking at the technical conference should notify the Commission by April 25, 2016 by completing the online form at the following Web page: https://www.ferc.gov/whats-new/registration/05-09-16-speaker-form.asp. Those interested in attending the technical conference are encouraged, but not required, to register at the following Web page: https://www.ferc.gov/whats-new/registration/05-09-16-form.asp.

This event will be webcast and transcribed. Anyone with internet access can navigate to the “FERC Calendar” at www.ferc.gov, and locate the technical conference in the Calendar of Events. Opening the technical conference in the Calendar of Events will reveal a link to its webcast. The Capitol Connection provides technical support for the webcast and offers the option of listening to the meeting via phone-bridge for a fee. If you have any questions, visit www.CapitolConnection.org or call 703-993-3100. Transcripts of the conference will be immediately available for a fee from Ace-Federal Reporters, Inc. (202-347-3700).

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about this technical conference, please contact Anna Fernandez at Anna.Fernandez@ferc.gov or (202) 502-6682. For information related to logistics, please contact Sarah McKinley at Sarah.Mckinley@ferc.gov or (202) 502-8368.

Dated: April 15, 2016.
Kimberly D. Bose,
Secretary.

[FR Doc. 2016-09229 Filed 4-20-16; 8:45 am]

BILLING CODE 6717-01-P